DEPARTMENT OF EDUCATION

[CFDA No. 84.363A]

School Leadership Program

AGENCY: Office of Innovation and Improvement, Department of Education.

ACTION: Notice of intent to fund down the fiscal year (FY) 2008 grant slate for the School Leadership Program.

SUMMARY: The Secretary intends to use the grant slate developed in FY 2008 for the School Leadership Program authorized by Title II, part A, subpart 5 of the Elementary and Secondary Education Act of 1965, as amended, to make new grant awards in FY 2009. The Secretary takes this action because a significant number of high-quality applications remain on last year's grant slate. We expect to use an estimated $3 million for new awards in FY 2009. The actual level of funding depends on the amount of FY 2009 program funds that are available after the Department makes 22 expected continuation awards.

FOR FURTHER INFORMATION CONTACT: Beatriz Ceja, U.S. Department of Education, 400 Maryland Avenue, SW., 4W210, Washington, DC 20202-5960. Telephone: (202) 205-5009 or via Internet: beatriz.ceja@ed.gov.

If you use a telecommunications device for the deaf (TDD), call the Federal Relay Service (FRS), toll free, at 1-800-877-8339.

Individuals with disabilities can obtain this document in an accessible format (e.g., braille, large print, audiotape, or computer diskette) on request to the contact person listed under FOR FURTHER INFORMATION CONTACT.

SUPPLEMENTARY INFORMATION:

Background

The Department published a notice inviting applications for new School Leadership Program awards for FY 2008 in the Federal Register on March 3, 2008 (73 FR 11504).

In response to the March 3 notice inviting applications, we received a significant number of high-quality applications and made 22 new grant awards. However, many applications that were awarded high scores by peer reviewers did not receive funding in FY 2008 because of insufficient appropriations.

The Department's FY 2009 appropriation is sufficient to permit the Department to make continuation awards to each of these 22 grantees and make a small number of new School Leadership Program awards. Rather than using program funds for a new peer review process, the Department has decided to use the remaining funds (after continuation awards are made) to select grantees in FY 2009 from the existing slate of applications. This slate was developed during the FY 2008 competition using the selection criteria, application requirements, and definitions referenced in the March 3 notice inviting applications (73 FR 11504).

Note: To be eligible to receive a grant under this notice all applicants being considered for funding must meet all statutory eligibility criteria (i.e., be a high-need LEA, a consortium of high-need LEAs, or a partnership that includes one or more high-need LEAs), and be able to demonstrate a commitment to implement the scope and objectives of the project proposed in the application submitted in 2008. Only applications from the 2008 slate will be considered. Our intent is to fund down the slate from the last 2008 funded application until available funds are exhausted.

Program Authority: 20 U.S.C. 6651(b).

Electronic Access to This Document: You can view this document, as well as all other documents of this Department published in the Federal Register, in text or Adobe Portable Document Format (PDF), on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: April 30, 2009.
James H. Shelton, III,
Assistant Deputy Secretary for Innovation and Improvement.

[FR Doc. E9-10353 Filed 5-4-09; 8:45 am]

BILLING CODE 4000-01-P